DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Application for Farm Labor Contractor and Farm Labor Contractor Employee Certificate of Registration (WH-530). A copy of the proposed information collection request can be obtained by contacting the office listed below in the addresses section of this Notice.

DATES: Written comments must be submitted to the office listed in the addresses section below on or before May 15, 2006.

ADDRESSES: Ms. Hazel M. Bell, U.S. Department of Labor, 200 Constitution Ave., NW., Room S-3201, Washington, DC 20210, telephone (202) 693-0418, fax (202) 693-1451, E-mail bell.hazel@dol.gov. Please use only one method of transmission for comments (mail, fax, or E-mail).

SUPPLEMENTARY INFORMATION: I. Background: Migrant and Seasonal Agricultural Worker Protection Act (MSPA), 29 U.S.C. 1801 et seq., section 101(a) provides that no person shall engage in any farm labor contracting activity unless such person has a certificate of registration from the Secretary of Labor specifying which farm labor contracting activities such person is authorized to perform. Contracting activities include recruiting, soliciting, hiring, employing, furnishing, transporting or driving any migrant or seasonal agricultural worker and, with respect to migrant agricultural workers, providing housing. MSPA section 101(b) provides that a farm labor contractor shall not hire, employ or use any individual to perform farm labor contracting activities (i.e. recruiting, soliciting, hiring, employing, furnishing or transporting any migrant or seasonal agricultural worker) unless such individual has a certificate of registration as a farm labor contractor, or a certificate of registration as an employee of a farm labor contractor employer, which authorizes the activity for which such individual is hired, employed or used. Section 102 of MSPA provides that, after appropriate investigation and review, the Secretary shall issue a farm labor contractor certificate of registration (including a certificate of registration as an employee of a farm labor contractor) to any person who has filed with the Secretary a written application. Form WH-530 is the application form which provides the Department of Labor with the information necessary to issue certificates specifying the farm labor contracting activities authorized. This information collection is currently approved for use through August 31, 2006.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: The Department of Labor seeks approval for the extension of this information collection in order to carry out its responsibility to issue, after appropriate investigation and review, a farm labor certificate of registration, including a certificate of registration as an employee of a farm labor contractor, to any person who has filed with the Secretary a written application for a certificate.

Type of Review: Extension.

Agency: Employment Standards Administration.

Title: Application for Farm Labor Contractor and Farm Labor Contractor Employee Certificate of Registration.

OMB Number: 1215-0037.

Agency Number: WH-530.

Affected Public: Individuals or household; business or other for-profit; Farms.

Total Respondents: 7,800.

Total Responses: 7,800.

Time per Response: 30 minutes.

Frequency: On Occasion (initial application); biannually (renewal).

Estimated Total Burden Hours: 3,900.

Total Burden Cost (capital/startup): $0.

Total Burden Cost (operating/maintenance): $2,130.

Comments submitted in response to this notice will be summarized and/or included in the request for Office of Management and Budget approval of the information collection request; they will also become a matter of public record.

Dated: March 9, 2006.
Sue Blumenthal,
Acting Chief, Branch of Management Review and Internal Control, Division of Financial Management,Office of Management, Administration and Planning, Employment Standards Aministration.

[FR Doc. E6-3830 Filed 3-15-06; 8:45 am]

BILLING CODE 4510-27-P